ENVIRONMENTAL PROTECTION AGENCY

[FRL-7556-2]

Request for Nominations to the Good Neighbor Environmental Board

AGENCY: Environmental Protection Agency (EPA).

ACTION: Notice of request for nominations.

SUMMARY: The U.S. Environmental Protection Agency (EPA) invites nominations of qualified candidates to be considered for appointments to fill several vacancies on the Good Neighbor Environmental Board. For this round of recruitment, given the goal of maintaining diverse representation across sectors and geographic locations, tribal representatives and representatives from academic institutions in the state of Arizona are especially encouraged to apply. Suggested deadline for receiving nominations is Friday, September 19, 2003. Appointments will be made by the Administrator of the Environmental Protection Agency. Appointments are scheduled to be announced during October 2003.

ADDRESSES: Submit nomination materials to: Elaine Koerner, Designated Federal Officer, Good Neighbor Environmental Board, EPA Region 9 Office, WTR-4, 75 Hawthorne St., San Francisco, CA 94105, T: 415-972-3437, F: 415-947-3537, e-mail koerner.elaine@epa.gov.

FOR FURTHER INFORMATION CONTACT: Elaine Koerner, Designated Federal Officer, Good Neighbor Environmental Board, EPA Region 9 Office, WTR-4, 75 Hawthorne St., San Francisco, CA 94105, T: 415-972-3437, F: 415-947-3537, e-mail koerner.elaine@epa.gov.

SUPPLEMENTARY INFORMATION: The Good Neighbor Environmental Board meets three times each calendar year at different locations along the U.S.-Mexico border. It was created by the Enterprise for the Americas Initiative Act of 1992. An Executive Order delegates implementing authority to the Administrator of EPA. The Board is responsible for providing advice to the U.S. President and Congress on environmental and infrastructure issues and needs within the States contiguous to Mexico in order to improve the quality of life of persons residing on the U.S. side of the border. The statute calls for the Board to have representatives from U.S. Government agencies; the governments of the States of Arizona, California, New Mexico and Texas; and private organizations with expertise on environmental and infrastructure problems along the southwest border. Board members typically contribute 10-15 hours per month to the Board's work. The Board membership position is voluntary; travel expenses are covered.

The following criteria will be used to evaluate nominees:

• Residence in one of the four U.S. border states.

• Professional knowledge of, and experience with, environmental infrastructure activities and policy along the U.S.-Mexico border.

• Senior level-experience that fills a gap in Board representation, or brings a new and relevant dimension to its deliberations.

• Representation of a sector or group that is involved in border region environmental infrastructure.

• Demonstrated ability to work in a consensus-building process with a wide range of representatives from diverse constituencies.

• Willingness to serve a two-year term as an actively-contributing member, with possible re-appointment to a second term.

Nominees' qualifications will be assessed under the mandates of the Federal Advisory Committee Act, which requires Committees to maintain diversity across a broad range of constituencies, sectors, and groups. Nominations for membership must include a resume describing the professional and educational qualifications of the nominee as well as community-based experience. Contact details should include full name and title, business mailing address, telephone, fax, and e-mail address. A supporting letter of endorsement is encouraged but not required.

Dated: August 29, 2003.
Elaine M. Koerner,
Designated Federal Officer.

[FR Doc. 03-23061 Filed 9-9-03; 8:45 am]

BILLING CODE 6560-50-P